DEPARTMENT OF DEFENSE

Office of the Secretary

Board of Visitors Meeting

AGENCY: Defense Acquisition University, DoD.

ACTION: Board of Visitors meeting; correction.

SUMMARY: On May 8, 2009, 74 FR 21664, the Department of Defense published a notice announcing a meeting of the Defense Acquisition University (DAU) Board of Visitors (BoV) on May 20, 2009. This notice is published to inform participants of the new meeting location. All other information remains unchanged.

ADDRESSES: Defense Acquisition University, 9820 Belvoir Road, Fort Belvoir, Virginia 22060.

FOR FURTHER INFORMATION CONTACT: Ms. Christen Goulding at 703-805-5134.

Dated: May 12, 2009.
Morgan E. Frazier,
Alternate OSD Federal Register Liaison Officer, Department of Defense.

[FR Doc. E9-11346 Filed 5-14-09; 8:45 am]

BILLING CODE 5001-06-P